DEPARTMENT OF AGRICULTURE

Rural Utilities Service

Arkansas Electric Cooperative Corporation; Notice of Intent

AGENCY: Rural Utilities Service, USDA.

ACTION: Notice of Intent to Prepare an Environmental Assessment.

SUMMARY: Notice is hereby given that the Rural Utilities Service (RUS), pursuant to the National Environmental Policy Act of 1969 (NEPA) (42 U.S.C. 4321 et seq.), the Council on Environmental Quality (CEQ) Regulations for Implementing NEPA (40 CFR Parts 1500-1508), and RUS Environmental Policies and Procedures (7 CFR Part 1794) proposes to prepare an Environmental Assessment related to possible financial assistance to Arkansas Electric Cooperative Corporation for the construction of a 153 megawatt (MW) combustion turbine electric generating plant in southwest Arkansas.

FOR FURTHER INFORMATION CONTACT: Bob Quigel, Engineering and Environmental Staff, Rural Utilities Service, Stop 1571, 1400 Independence Avenue, SW, Washington, DC 20250-1571, telephone (202) 720-0468. The E-mail address is bquigel@rus.usda.gov.

SUPPLEMENTARY INFORMATION: Arkansas Electric Cooperative Corporation proposes to construct the plant at a 159 acre site east of Fulton, Arkansas. Fulton is located in Hempstead County.

The project, as proposed, would consist of a 153 MW gas-fired, simple cycle combustion turbine and a water-cooled generator. The plant will have a 90-foot exhaust stack, step-up and auxiliary transformers, motor control centers, bus ductwork, an electric substation, and control, maintenance, and operations buildings. The project would require 4 miles of 115 kV transmission line to tie the plant to the existing transmission grid. (The transmission line will be built to 161 kV specifications in anticipation that additional transmission line capacity may be needed in the future.)

The facility will be designed to accommodate conversion of the plant to combined cycle operation, but will be initially operated as a simple cycle plant. The site will also be designed to accommodate the addition of one or more simple or combined cycle units. However, the Environmental Assessment announced herein will cover only the initial 153 MW simple cycle plant and related electric transmission line as only the 153 MW unit is being considered for RUS financial assistance.

The alternative to be considered by RUS to providing financial assistance to Arkansas Electric Cooperative Corporation for the construction of the 153 MW plant would be to take no action and, therefore, not provide financial assistance.

Upon completion of the Environmental Assessment, the document will be made available for public review for 30 days. Should RUS determine that the overall impacts of the construction and operation of the plant will not have a significant impact on the quality of the human environment, it will prepare and publish a finding of no significant impact (FONSI).

Availability of the Environmental Assessment and notification of a FONSI will be published in the Federal Register and in newspapers with a general circulation in the project area.

Any final action by RUS related to the proposed project will be subject to, and contingent upon, compliance with environmental review requirements prescribed by CEQ and RUS regulations.

Dated: May 11, 2000.
Mark Plank,
Acting Director, Engineering and Environmental Staff.

[FR Doc. 00-12440 Filed 5-16-00; 8:45 am]

BILLING CODE 3410-15-P